DEPARTMENT OF AGRICULTURE

Food and Nutrition Service

Agency Information Collection Activities: Proposed Collection; Comment Requested—Review of Child Nutrition Data and Analysis for Program Management

AGENCY: Food and Nutrition Service (FNS), USDA.

ACTION: Notice.

SUMMARY: In accordance with the Paperwork Reduction Act of 1995, this notice invites the general public and other public agencies to comment on this proposed information collection. This is a new collection to review and document State and School Food Authority (SFA) National School Lunch Program (NSLP) and School Breakfast Program (SBP) Management Information Systems (MIS) in order to provide FNS with a baseline assessment of the MIS system and to inform FNS regarding how States and SFAs use data systems beyond fulfilling FNS reporting requirements.

DATES: Written comments on this notice must be received on or before May 8, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be submitted through one of the following methods:

• Preferred method: Submit information through the Federal eRulemaking Portal at http://www.regulations.gov. Follow the online instructions for submissions.

• Mail: Submissions should be addressed to Dennis Ranalli, Social Science Policy Analyst, Office of Policy Support, FNS, U.S. Department of Agriculture, 3101 Park Center Drive, Room 1014, Alexandria, VA 22302. Comments may also be emailed to dennis.ranalli@fns.usda.gov.

All information properly and timely submitted, using one of the methods described above, in response to this request will be included in the record and will be made available to the public on the Internet at http://www.regulations.gov. Please be advised that the substance of the information provided and the identity of the individuals or entities submitting it will be subject to public disclosure.

All written comments will be open for public inspection at the FNS office located at 3101 Park Center Drive, Alexandria, Virginia, 22302, Room 1014, during regular business hours (8:30 a.m. to 5:00 p.m., Monday through Friday). All responses to this notice will be summarized and included in the request for Office of Management and Budget (OMB) approval. All comments will be a matter of public record.

FOR FURTHER INFORMATION CONTACT: Requests for additional information or copies of this information collection should be directed to Dennis Ranalli at 703-305-2149 or dennis.ranalli@fns.usda.gov.

SUPPLEMENTARY INFORMATION:

Title: Review of Child Nutrition Data and Analysis for Program Management.

Form Number: N/A.

OMB Number: Not yet assigned.

Expiration Date: Not yet determined.

Type of Request: New collection.

Abstract: The Richard B. Russell National School Lunch Act of 1946 and Child Nutrition Act of 1966 provide the legislative authority for the National School Lunch Program (NSLP) and School Breakfast Program (SBP). These programs provide federal financial assistance and USDA foods to public and non-profit private schools and residential childcare institutions to facilitate serving meals that meet nutritional standards. At the State level, State education agencies (SEAs) administer NSLP/SBP. At the local level, School Food Authorities (SFAs) operate these programs through agreements with SEAs. SFAs use Management Information Systems (MIS) of varying levels of sophistication to collect the range of information required to implement and manage school food service programs.

The information SFAs collect include meal production, labor cost, food cost, inventory and other data needed to manage their operations. SFAs also collect reimbursable meal counts and other information for obtaining NSLP/SBP reimbursements and meeting State reporting requirements. SFAs are accountable for meeting NSLP/SBP standards, maintaining food safety standards, ensuring proper use of funds, and managing meal services within a budget.

Current State and federal data collection requirements for the NSLP/SBP have grown from manual paper-based reporting and early computer eras that were characterized by concerns to minimize paperwork and reporting burden. While SFAs collect a wide array of data to enhance local administration, SEAs request and aggregate a subset of this data and ultimately report only a small part of it to the Food and Nutrition Service (FNS) as State data.

The purpose of this study is to review and document the management information systems of State education agencies and School Food Authorities. Specifically, the study will present a baseline assessment of the MIS systems based on data collected:

• Objective 1: Determine the baseline “as is” functionality of State education agencies (SEA) and School Food Authority (SFA) National School Lunch Program (NSLP)/School Breakfast Program (SBP) data management information systems.

• Objective 2: Assess when State and local NSLP/SBP data management information systems were developed, and the expected longevity of these systems.

• Objective 3: Determine the typical costs of developing, maintaining, modifying and replacing State and local NSLP/SBP data management information systems.

• Objective 4: Outline the data elements that State and SFA NSLP/SBP data management systems collect and generate, beyond those reported to FNS, to administer and manage the NSLP and SBP at the State and SFA levels.

• Objective 5: Assess what proportion of States and SFAs collect or generate NSLP/SBP management data that they do not report to FNS.

• Objective 6: Describe how long these data elements are retained and how frequently they are updated.

• Objective 7: Determine the functions that these data element serve. Describe the types of access, analysis, and standard or ad-hoc report generation supported by State and local NSLP/SBP data systems.

• Objective 8: Describe the technical and other challenges SFA and State administrators face in NSLP/SBP data collection, aggregation, and reporting. Describe the perceptions of these officials of the quality of the reported data.

The purpose of this project is to review and document SFA and State NSLP/SBP management information systems by conducting:

1. A census of all State agencies responsible for administering NSLP/SBP, and

2. A Web survey of a nationally representative sample of small, medium and large SFAs.

Affected Public: State, Local and Tribal Government. Respondent groups identified include: (1) Data managers from State agencies that administer school meal programs in all 50 States and the District of Columbia and (2) a sample of SFA administrators or data managers.

Estimated Number of Respondents: The total estimated number of unique respondents is 5,091. FNS expects that one representative from each State school meals agency will participate in the State agency survey. In addition, FNS expects that two respondents from each SFA will be needed to complete the SFA survey because this survey will seek information on a range of aspects of the MIS of SFAs. Based on this, FNS estimates that the total number of unique respondents for this study will include 51 representatives from State school meals agencies; 4,032 administrators and data managers from small, medium, and large SFAs; and 1,008 non-respondents. The study will contact 2,520 SFAs with an expected response rate of 80%, which will result in 2,016 completed Web surveys.

Estimated Frequency of Responses per Respondent: 3.16.

Estimated Total Annual Responses: 16,062.

Estimated Time per Response: 10 minutes (0.17 hours). The estimated response time varies from three minutes to one hour. The census of State school meal agencies will take 60 minutes (1 hour) to complete. All representatives will receive prior notification of the survey. The estimated burden of this notification is 5 minutes (0.08 hours). For the Web survey of SFAs, all potential respondents will receive prior notification, which will require 5 minutes (0.08 hours) to read. It is anticipated that two respondents from each SFA will respond—the administrator and data manager. Estimated time of response for SFA administrators is 12 minutes (0.2 hours). The estimated time of response for SFA data managers (or equivalent) is 48 minutes (0.8 hours). Estimated time for non-respondents is 3 minutes (0.05 hours). Non-respondents include those who attempt the survey but do not complete or decline to participate. There will be three follow-up activities for both the census and the Web survey. The estimated burden for each follow-up activity is 3 minutes (0.05 hours).

Estimated Total Annual Burden on Respondents: 2,743.09 hours.

See the table below for estimated total annual burden for each type of respondent.

Respondent | Estimated number respondent | Frequency of response (annually) | Total annual responses (col. bxc) | Estimated avg. number of hours per response | Estimated total hours (col. dxe)
Census.
Census Notification | 51 | 1 | 51 | 0.08 | 4.08
Representative of State school meals agencies | 51 | 1 | 51 | 1.00 | 51.00
Census Follow-up 1 | 36 | 1 | 36 | 0.05 | 1.79
Census Follow-up 2 | 28 | 1 | 28 | 0.05 | 1.40
Census Follow-up 3 | 20 | 1 | 20 | 0.05 | 1.02
Web Survey
Survey Notification | 2,520 | 1 | 2,520 | 0.08 | 201.60
School Food Authority Administrator | 2,016 | 1 | 2,016 | 0.20 | 403.20
Survey Follow-up 1 (Administrator and Data Manager) | 3,528 | 1 | 3,528 | 0.05 | 176.40
Survey Follow-up 2 (Administrator and Data Manager) | 2,772 | 1 | 2,772 | 0.05 | 138.60
Survey Follow-up 3 (Administrator and Data Manager) | 2,016 | 1 | 2,016 | 0.05 | 100.80
School Food Authority Data Manager (or equivalent) | 2,016 | 1 | 2,016 | 0.80 | 1,612.80
School Food Authority Administrator (Attempted)—Non-Response | 504 | 1 | 504 | 0.05 | 25.20
School Food Authority Data Manager (or equivalent)—Non-Response | 504 | 1 | 504 | 0.05 | 25.20
Total Reporting Burden | 5,091 | 3.16 | 16,062 | 0.17 | 2,743.09

Dated: February 19, 2015.
Audrey Rowe,
Administrator, Food and Nutrition Service.

[FR Doc. 2015-05315 Filed 3-6-15; 8:45 am]

BILLING CODE 3410-30-P